DEPARTMENT OF ENERGY

Federal Energy Regulatory Commission

18 CFR Part 38

[Docket No. RM05-5-022]

Standards for Business Practices and Communication Protocols for Public Utilities

AGENCY: Federal Energy Regulatory Commission.

ACTION: Notice of proposed rulemaking.

SUMMARY: The Federal Energy Regulatory Commission proposes to incorporate by reference in its regulations Version 003 of the Standards for Business Practices and Communication Protocols for Public Utilities adopted by the Wholesale Electric Quadrant (WEQ) of the North American Energy Standards Board (NAESB). These standards modify NAESB's WEQ Version 002 and Version 002.1 Standards.

DATES: Comments are due September 24, 2013.

ADDRESSES: Comments, identified by Docket No. RM05-5-022, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT:

Tony Dobbins (technical issues), Office of Energy Policy and Innovation, Federal Energy Regulatory Commission, 888 First Street NE., Washington, DC 20426, (202) 502-6630.

Gary D. Cohen (legal issues), Office of the General Counsel, Federal Energy Regulatory Commission, 888 First Street NE., Washington, DC 20426, (202) 502-8321.

SUPPLEMENTARY INFORMATION:

Notice of Proposed Rulemaking

Table of Contents
| Paragraph Nos.
I. Background | 3
II. Discussion | 10
A. Revisions to OASIS Standards Made To Comply With Order No. 890 Objectives and Requirements | 12
1. Service Across Multiple Transmission Systems (SAMTS) | 12
2. Network Integration Transmission Service (NITS) | 13
3. Rollover Rights for Redirects | 14
4. Redirect Requests and Available Transfer Capacity (ATC) Credit | 15
5. OASIS Introduction and Applicability Sections | 16
6. Commission Proposal | 16
B. Revisions to OASIS Standards Not Related to Order No. 890 Objectives and Requirements | 16
C. Other Standards | 18
1. Coordinate Interchange Standards | 18
2. Gas/Electric Coordination Standards | 18
3. Public Key Infrastructure (PKI) Standards | 19
4. Smart Grid Standards | 22
5. Standards Related to Terms, Definition and Acronyms | 24
6. Commission Proposal | 24
D. Implementation | 24
III. Notice of Use of Voluntary Consensus Standards | 25
IV. Information Collection Statement | 26
V. Environmental Analysis | 30
VI. Regulatory Flexibility Act Certification | 30
VII. Comment Procedures | 32
VIII. Document Availability | 33

144 FERC ¶ 61,026

(Issued July 18, 2013.)

1. In this notice of proposed rulemaking (NOPR), the Federal Energy Regulatory Commission (Commission) proposes to amend its regulations under the Federal Power Act ¹ to incorporate by reference, with certain enumerated exceptions, the latest version of the Standards for Business Practices and Communication Protocols for Public Utilities (Version 003) adopted by the Wholesale Electric Quadrant (WEQ) of the North American Energy Standards Board (NAESB) and filed with the Commission as a package on September 18, 2012 (September 18 Filing), as modified in a report filed with the Commission on January 30, 2013.

¹ 16 U.S.C. 791a, et seq.

2. These revised standards update earlier versions of these standards that the Commission previously incorporated by reference into its regulations at 18 CFR 38.2. These new and revised standards include modifications to support Order Nos. 890, 890-A, 890-B and 890-C,² including the standards to support Network Integration Transmission Service on an Open Access Same-Time Information System (OASIS), Service Across Multiple Transmission Systems (SAMTS), standards to support the Commissions policy regarding rollover rights for redirects on a firm basis, standards that incorporate the functionality for transmission providers to credit redirect requests with the capacity of the parent reservation and standards modifications to support consistency across the OASIS-related standards.

² Preventing Undue Discrimination and Preference in Transmission Service, Order No. 890, FERC Stats. & Regs. ¶ 31,241 (2007), order on reh'g, Order No. 890-A, FERC Stats. & Regs. ¶ 31,261 (2007), order on reh'g, Order No. 890-B, 123 FERC ¶ 61,299 (2008), order on reh'g and clarification, Order No. 890-C, 126 FERC ¶ 61,228 (2009) (Order No. 890-C). The Version 002 standards also included revisions made in response to Order No. 890 (see infra P 11).

3. The Version 003 Standards also include modifications to the OASIS-related standards that NAESB states support Order Nos. 676, 676-A, 676-E and 717 and add consistency.³ In addition, NAESB states that it made modifications to the Coordinate Interchange standards to compliment the updates to the e-Tag specifications,⁴ modifications to the Gas/Electric Coordination standards to provide consistency between the two markets ⁵ and re-organized and revised definitions to create a standard set of terms, definitions and acronyms applicable to all NAESB WEQ standards.⁶ NAESB states that the Version 003 Standards also include standards related to Demand Side Management and Energy Efficiency,⁷ which the Commission incorporated by reference in Docket No. RM05-5-020 ⁸ after NAESB filed its Version 003 report, and Smart Grid-related standards that NAESB previously filed with the Commission in Docket No. RM05-5-021.⁹

³ Standards for Business Practices and Communication Protocols for Public Utilities, Order No. 676, FERC Stats. & Regs. ¶ 31,216, (2006), reh'g denied, Order No. 676-A, 116 FERC ¶ 61,255 (2006), Final Rule, Order No. 676-B, FERC Stats. & Regs. ¶ 31,246 (2007), Final Rule, Order No. 676-C, FERC Stats. & Regs. ¶ 31,274 (2008), order granting clarification and denying reh'g, Order No. 676-D, 124 FERC ¶ 61,317 (2008), Final Rule, Order No. 676-E, FERC Stats. & Regs. ¶ 31,299 (2009) (Order No. 676-E); Standards of Conduct for Transmission Providers, Order No. 717, FERC Stats. & Regs. ¶ 31,280 (2008) (Order No. 717).

⁴ September 18 Filing, transmittal at 2 (citing NAESB WEQ Electronic Tagging—Functional Specifications, Version 1.8.1).

⁵ Id.

⁶ Id.

⁷ Id.

⁸ Standards for Business Practices and Communication Protocols for Public Utilities, Order No. 676-G, 78 FR 14654 (Mar. 7, 2013), FERC Stats. & Regs. ¶ 31,343 (Feb. 21, 2013). In this rule, the Commission incorporated by reference into its regulations updated business practice standards adopted by NAESB's WEQ to categorize various products and services for demand response and energy efficiency and to support the measurement and verification of these products and services in organized wholesale electric markets. These same standards are included without revision in the Version 003 standards.

⁹ These standards were originally cited in a NAESB July 2011 report filed with the Commission and were resubmitted as part of WEQ Version 003. See Report of the North American Energy Standards Board on Smart Grid Related Standards, Docket No. RM05-5-021 (filed July 7, 2011); NAESB September 18 Filing at 2.

I. Background

4. NAESB is a non-profit standards development organization established in January 2002 that serves as an industry forum for the development and promotion of business practice standards that promote a seamless marketplace for wholesale and retail natural gas and electricity. Since 1995, NAESB and its predecessor, the Gas Industry Standards Board, have been accredited members of the American National Standards Institute (ANSI), complying with ANSI's requirements that its standards reflect a consensus of the affected industries.

5. NAESB's standards include business practices that streamline the transactional processes of the natural gas and electric industries, as well as communication protocols and related standards designed to improve the efficiency of communication within each industry. NAESB supports all four quadrants of the gas and electric industries—wholesale gas, wholesale electric, retail gas, and retail electric. All participants in the gas and electric industries are eligible to join NAESB and participate in standards development.

6. NAESB develops its standards under a consensus process so that the standards draw support from a wide range of industry members. NAESB's procedures are designed to ensure that all industry members can have input into the development of a standard, whether or not they are members of NAESB, and each standard NAESB adopts is supported by a consensus of the relevant industry segments. Standards that fail to gain consensus support are not adopted.

7. In Order No. 676, the Commission not only adopted business practice standards and communication protocols for the wholesale electric industry, it also established a formal ongoing process for reviewing and upgrading the Commission's OASIS standards and other wholesale electric industry business practice standards. In later orders in this series, the Commission incorporated by reference: (1) The Version 001 Business Practice Standards; ¹⁰ (2) the Version 002.1 Business Practice Standards; ¹¹ (3) business practice standards categorizing various demand response products and services; ¹² and (4) OASIS-related Business Practice Standards related to Demand Side Management and Energy Efficiency.¹³

¹⁰ Standards for Business Practices and Communication Protocols for Public Utilities, Order No. 676-C, FERC Stats. & Regs. ¶ 31,274, reh'g denied, Order No. 676-D, 124 FERC ¶ 61,317 (2008).

¹¹ Standards for Business Practices and Communication Protocols for Public Utilities, Order No. 676-E, FERC Stats. & Regs. ¶ 31,299 (2009). This order also incorporated revisions made in response to Order Nos. 890, 890-A, and 890-B.

¹² Standards for Business Practices and Communication Protocols for Public Utilities, Order No. 676-F, FERC Stats. & Regs. ¶ 31,309 (2010).

¹³ Order No. 676-G, see supra n.8.

8. In Order No. 890, the Commission revisited the pro forma Open Access Transmission Tariff (OATT) first established in Order No. 888 ¹⁴ and adopted a revised pro forma OATT designed to better achieve the objectives of preventing undue discrimination and providing greater specificity and transparency. In later orders in this series, the Commission affirmed, with clarifications, the basic findings that it made in Order No. 890.

¹⁴ Promoting Wholesale Competition Through Open Access Non-Discriminatory Transmission Services by Public Utilities; Recovery of Stranded Costs by Public Utilities and Transmitting Utilities, Order No. 888, FERC Stats. & Regs. ¶ 31,036 (1996), order on reh'g, Order No. 888-A, FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group v. FERC, 225 F.3d 667 (D.C. Cir. 2002), aff'd sub nom. New York v. FERC, 535 U.S. 1 (2002).

9. A number of the findings made by the Commission in the Order No. 890 series of orders necessitated revisions to the Business Practice Standards for Public Utilities so that there would be no inconsistency between the requirements of Order No. 890 and the Business Practice Standards. Accordingly, NAESB set up a work project to review the existing business practice standards, identify which standards would need revision to prevent any inconsistencies with the Order No. 890 requirements, and develop and adopt the needed revised standards. Those revised standards form part of the package of revisions included in the WEQ Version 003 Standards. These revisions are in addition to the Order No. 890-related revisions incorporated by reference in Order No. 676-E.

10. In total, NAESB's WEQ Version 003 business practice standards include the following standards: ¹⁵

¹⁵ All of the standards were filed with the Commission as a package on September 18, 2012 and were modified on January 30, 2013.

¹⁶ With the exception of standards WEQ 009 and 010, which are unchanged from Versions 002 and 002.1, NAESB's Version 003 Report adopts revisions to multiple subsections of each of the WEQ standards listed.

WEQ ¹⁶ | Standards & models related to:
000 | Abbreviations, Acronyms, and Definition of Terms, Version 003.
001 | Open Access Same-Time Information System (OASIS), Version 003.
002 | OASIS Standards and Communication Protocols (S&CP), Version 003.
003 | OASIS S&CP Data Dictionaries.
004 | Coordinate Interchange.
005 | ACE Equation Special Cases.
006 | Manual Time Error Corrections.
007 | Inadvertent Interchange Payback.
008 | Transmission Loading Relief.
009 | Standards of Conduct.
010 | Contracts Related Standards.
011 | Gas/Electric Coordination.
012 | Public Key Infrastructure (PKI).
013 | OASIS Implementation Guide.
014 | WEQ/WGQ eTariff Related Standards.
015 | Measurement and Verification of Wholesale Electricity Demand Response.
016 | Specifications for Common Electricity Product and Pricing Definition.
017 | Specifications for Common Schedule Communication Mechanism for Energy Transactions.
018 | Specifications for Wholesale Standard Demand Response Signals.
019 | Customer Energy Usage Information Communication.
020 | Smart Grid Standards Data Element Table.
021 | Measurement and Verification of Energy Efficiency Products.

11. The Version 003 standards include five categories of standards not previously incorporated by reference by the Commission that were developed by NAESB in response to the Order No. 890 series of orders. These include: (1) Standards that NAESB previously submitted to support SAMTS;¹⁷ (2) part two of the standards modifications to the WEQ-001-9.7 Business Practice Standard requested in FERC Order No. 890-A¹⁸ related to rollover rights to requests for redirect on a firm basis; (3) the WEQ-001-9.1.3.1 and WEQ-001-10.3.1.1 Business Practice standards that provide for transmission providers to process redirect requests in a manner in which the request would be processed in a manner that counts the available transfer capability encumbered by the parent reservation as available for the redirected request; ¹⁹ (4) standards to support Network Integration Transmission Service on the OASIS; ²⁰ and (5) standards modifications to support consistency across the NAESB OASIS standards.²¹

¹⁷ See September 18 Filing at 3 & n.13 (citing submittal of NAESB Standards Development to Support Coordination of Requests for Transmission Service Across Multiple Transmission Systems (Docket No. RM05-5-013) on October 7, 2011, with minor corrections on January 25, 2012).

¹⁸ See September 18 Filing at 3 (citing NAESB WEQ Business Practices Standards Crediting Redirect Requests with the Capacity of the Parent Reservation).

¹⁹ Id. at 3.

²⁰ Id.

²¹ Id.

12. In Order No. 717, the Commission made several modifications related to the posting requirements associated with the Standards of Conduct. Specifically, the Commission discontinued the requirement for public utilities to post standards of conduct information on their OASIS sites.²² In response, WEQ's Business Practice Subcommittee modified the WEQ-001, WEQ-002 and WEQ-003 Business Practice Standards to remove reference to the standards of conduct-related obligations with the exception of a few template structures that may be implemented at the option of the transmission provider. WEQ's OASIS Subcommittee also modified standards WEQ-013-2.6.81 and WEQ-013-2.6.82 to clarify the listing of service types, modified standards WEQ-001-14.1.3 and WEQ-001-15.1.2 regarding the timing of required postings of narratives, and made modifications to standards WEQ-001, WEQ-002 and WEQ-003 (concerning standards of conduct posting requirements) in response to Order No. 717.

²² Order No. 717, FERC Stats. & Regs. ¶ 31,280 at PP 213-218 and PP 235-239.

13. The Joint Electric Scheduling Subcommittee (JESS), a standing joint subcommittee made up of participants from NAESB and the North American Electric Reliability Corporation (NERC), has been tasked with coordinating efforts to maintain and modify, as needed, the coordinate interchange business practice standards in WEQ-004 with their associated reliability standards. JESS now leads the effort to harmonize the Coordinate Interchange (WEQ-004) standards with the WEQ-001, WEQ-003 and WEQ-013 Business Practice Standards in light of revisions made to the Electronic Tagging Functional Specification, previously maintained by NERC, and now maintained and updated, as needed, by NAESB. The WEQ adopted additional modifications to the WEQ-004 standards to use abbreviations, acronyms, definitions and terms consistent with those in Standard WEQ-000 and to provide consistency across all WEQ standards.

14. WEQ adopted modifications to support consistency between the WEQ business practice standards and the Wholesale Gas Quadrant (WGQ) Gas/Electric Coordination standards. In addition, WEQ made modifications to the business practice standards to harmonize the terms and definitions contained within the WEQ business practice standards with the definitions of those terms used in the business practice standards for other quadrants. These changes were also coordinated to be consistent with definitions and terms contained in the NERC Glossary.

15. Also included in the WEQ Version 003 standards are standards developed to support Smart Grid applications as well as standards related to the measurement and verification of Demand Response (DR) and Energy Efficiency (EE) products. These standards have been referenced in earlier reports filed with the Commission before the completion of the WEQ Version 003 standards. The Smart Grid application standards had been referenced in a report filed with the Commission on July 7, 2011 in Docket No. RM05-5-021. The DR and EE measurement and verification standards were referenced in a report filed with the Commission on May 2, 2011 in Docket No. RM05-5-021 and have been the subject of Commission action.²³

²³ Standards for Business Practices and Communication Protocols for Public Utilities, Order No. 676-G, 78 FR 14654 (Mar. 7, 2013), FERC Stats. & Regs. ¶ 31,343 (Feb. 21, 2013).

16. Finally, NAESB's September 18 Filing includes an interpretation of standards WEQ-001-9.1 and WEQ-001-10.1 and recites the results of a quadrant wide effort to provide a common location for all abbreviations, acronyms and definitions of terms that created the WEQ-000 Business Practice Standards and addresses both internal inconsistencies and inconsistencies between the standards and terms and definitions in the NERC Glossary.

II. Discussion

17. As discussed below, with certain enumerated exceptions, we propose to incorporate by reference (into the Commission's regulations at 18 CFR 38.2) the NAESB WEQ Version 003 standards.²⁴ The Version 003 standards will update the Version 002.1 standards currently incorporated by reference into the Commission's regulations.²⁵

²⁴ Consistent with our past practice, we do not propose to incorporate by reference into the Commission's regulations the following standards: Standards of Conduct for Electric Transmission Providers (WEQ-009); Contracts Related Standards (WEQ-010); and WEQ/WGQ eTariff Related Standards (WEQ-014). We do not propose to incorporate by reference standard WEQ-009 because it contains no substantive standards and merely serves as a placeholder for future standards. We do not propose to incorporate by reference standard WEQ-010 because this standard contains an optional NAESB contract regarding funds transfers and the Commission does not require utilities to use such contracts. In addition, we do not propose to incorporate by reference standard WEQ-014, eTariff Related Standards, because the Commission already has adopted standards and protocols for electronic tariff filing based on the NAESB standards. See Electronic Tariff Filings, Order No. 714, FERC Stats. & Regs. ¶ 31,276 (2008). Also, we do not propose to incorporate by reference NAESB's interpretation of its standards on Gas/Electric Coordination (WEQ-011). While interpretations may provide useful guidance, NAESB's interpretations are not binding on the Commission and we will not require utilities to comply with those interpretations (although we will require compliance with all the standards that we incorporate by reference into the Commission's regulations). Additionally, as discussed more specifically the NITS section below, we do not propose to incorporate by reference certain portions of WEQ-001.

²⁵ See supra n.11.

18. We note that, in a separate rulemaking (in Docket No. RM13-17-000) being issued concurrently with this NOPR, the Commission is proposing new standards on coordination between natural gas and electricity markets. Depending on the outcome of that proceeding, we are considering situating the incorporation by reference that we are proposing in this NOPR in a different section in Part 38 than section 38.2. This should not, however, affect the substance of our proposal.

A. Revisions to OASIS Standards Made To Comply With Order No. 890 Objectives and Requirements

19. In the NAESB WEQ Version 003 standards, NAESB has developed new standards and revised existing standards designed to ensure consistency with certain policies articulated by the Commission in Order Nos. 890, 890-A and 890-B.

1. Service Across Multiple Transmission Systems (SAMTS)

20. The SAMTS business practice standards were developed to provide a process for customers to complete cross-regional transactions in response to the Commission's requirement that transmission providers develop business practice standards in this area.²⁶ SAMTS-related standards include modified and added terms in the Abbreviations, Acronyms and Definition of Terms (newly created WEQ-000), OASIS Business Practice Standards (WEQ-001), OASIS Standards and Communication Protocols (WEQ-002), OASIS Data Dictionary (WEQ-003), and the OASIS Implementation Guide (WEQ-013). The SAMTS standards address the coordination of point-to-point transmission service and/or network transmission service requests across multiple transmission systems. The process requires each affected provider to independently evaluate its portion of the linked request with the opportunity for reconciliation by the customer once all evaluations are complete. The customer communicates reconciled information to each of the affected providers.

²⁶ Order No. 890, FERC Stats. & Regs. ¶ 31,241 at P 1377.

2. Network Integration Transmission Service (NITS)

21. Network Integration Transmission Service allows a Network Customer to integrate, economically dispatch and regulate its current and planned Network Resources to serve its Network Load in a manner comparable to the way a Transmission Provider uses its Transmission System to serve its Native Load Customers.²⁷ The Commission required that utilities use OASIS to request designation of new network resources and to terminate designation of network resources.²⁸ In response to this requirement as well as other directives within Order No. 890 ²⁹ and subsequent orders,³⁰ NAESB's WEQ Executive Committee adopted business practice standards to support the OASIS functionality associated with NITS. These new and revised standards fall within the WEQ-000, WEQ-001, WEQ-002 and WEQ-003 Business Practice Standards.

²⁷ Order No. 890, Pro Forma OATT, Section III (Network Integration Transmission Service) Preamble.

²⁸ Order No. 890, FERC Stats. & Regs. ¶ 31,241 at P 385.

²⁹ Id., PP 1477, 1504, 1532, and 1541.

³⁰ Order No. 890-A, FERC Stats. & Regs. ¶ 31,261 at P 919; Order No. 890-B, 123 FERC ¶ 61,299 at P 188; Order No. 890-C, 126 FERC ¶ 61,228 at P 17.

22. The new/revised standards are designed to provide functionality that:

• Allows transmission providers to handle requests (loads, designation of a network resource, non-designated resources) on a customer-by-customer basis,

• allows the option of tracking designated network resource scheduling rights, and

• allows a customer to designate an agent to administer OASIS transactions on its behalf.

23. NAESB has proposed Standard WEQ-001-106.2.5, which appears to contemplate a Transmission Provider refusing a request to terminate a secondary network service. We request comment on the purpose of this standard and on whether the Commission should incorporate this standard by reference. We note that, in Order No. 890-A, the Commission found that it was not appropriate to allow a Transmission Provider to deny requests to terminate network resource designations, although Order No. 890-A did not directly address the issue of terminating secondary network service.³¹

³¹ Id. P 950.

3. Rollover Rights for Redirects

24. In Order No. 676, the Commission incorporated by reference NAESB's proposed standards for dealing with redirects, with the exception of WEQ-001-9.7 which the Commission viewed as inconsistent with the pro forma OATT and Commission policies on rollover rights.³² In Order No. 676-E, the Commission incorporated by reference new and modified NAESB standards related to rollover rights with the continued exception of standard WEQ-001-9.7. The Commission noted in Order No. 676-E that the filed NAESB standards represented only the first part of a two part process through which NAESB will fully develop standards that are consistent with the Commission's policy on rollover rights as articulated in Order Nos. 890, 890-A and 676.³³ As explained in Order No. 676-E, NAESB stated that the second part of this process would include modifications to Standard 001-9.7, as directed by Order No. 890.³⁴

³² Order No. 676, FERC Stats. & Regs. ¶ 31,216 at P 52.

³³ Order No. 890, FERC Stats. & Regs. ¶ 31,241 at PP 1231-1239; Order No. 890-A, FERC Stats. & Regs. ¶ 31,261 at PP 644-651; Order No. 676-E, FERC Stats. & Regs. ¶ 31,299 at P 94.

³⁴ Order No. 676-E, FERC Stats. & Regs. ¶ 31,299 at P 7 & n.12 (citing NAESB Version 002.1 filing letter dated Feb. 19, 2009).

25. In the Version 003 standards, NAESB modified WEQ-001-9.7 so that it would conform to the Commission's policy granting rollover rights to requests for redirect on a firm basis.³⁵ NAESB modified the WEQ-001-9 Business Practice Standards and modified the definition of Unexercised Rollover Rights and added a definition for Capacity Eligible for Rollover to make the NAESB standards consistent with the Commission's regulations. NAESB also made relevant modifications to standards WEQ-001, WEQ-002 and WEQ-013 and provided examples for the conveyance of rollover rights with a redirect on a firm basis provided in Appendix B of the WEQ-001 standards.

³⁵ As we stated in Entergy Services, Inc., 143 FERC ¶ 61,143, at P 25 & n.68 (2013), our guiding precedent on the issue of when a customer requesting redirect loses rights on the original path was set in Dynegy Power Marketing, Inc., 99 FERC ¶ 61,054, at P 9 (2002), where we held that a transmission customer receiving firm transmission service does not lose its rights to its original path until the redirect request satisfies all of the following criteria: (1) It is accepted by the transmission provider; (2) it is confirmed by the transmission customer; and (3) it passes the conditional reservation deadline under OATT section 13.2.

4. Redirect Requests and Available Transfer Capacity (ATC) Credit

26. In the Version 003 Standards, NAESB added standards WEQ-001-10.3.1.1 and WEQ-001-9.1.3.1, which provide that transmission providers are to process redirect requests in a manner that considers the available transfer capability encumbered by the parent reservation as available for the redirected request. The revised standards were designed to avoid violation of first come, first served queue priority principles.

5. OASIS Introduction and Applicability Sections

27. NAESB proposed modifications to the introduction and applicability sections of the OASIS standards to promote consistency within the standards. The introductory section of the standards provides a brief description of the purpose of the standard, while the applicability section identifies the entities that are affected by the standard. In addition, modifications were made to the organization and the structure of standards WEQ-001 and WEQ-013 for purposes of consistency.

6. Commission Proposal

28. With the exceptions noted, we propose to incorporate by reference Version 003 of these standards into the Commission's regulations.

B. Revisions to OASIS Standards Not Related to Order No. 890 Objectives and Requirements

29. In Version 003, NAESB also made modifications to address three issues not related to the requirements established in the Order No. 890 and not the subject of a report previously provided to the Commission. In Order No. 717, the Commission modified the posting requirements for waivers and exercises of discretion as well as some other posting requirements.³⁶ Of particular note, the Commission eliminated the requirement for public utilities (and pipelines) to post standards of conduct information on OASIS and instead required transmission providers to post that information on their Web sites.³⁷ NAESB modified WEQ-001, WEQ-002 and WEQ-003 to remove reference to the standards of conduct related obligations with the exception of a few template structures that may be implemented at the option of the transmission provider.

³⁶ Order No. 717, FERC Stats. & Regs. ¶ 31,280 at PP 213-218; PP 235-249.

³⁷ Order No. 717, FERC Stats. & Regs. ¶ 31,280 at P 247.

30. In Order No. 676-E, the Commission declined to incorporate NAESB WEQ-001-14.1.3 and WEQ-001-15.1.2 (both related to ATC Narrative) because these standards did not meet the Commission's requirement to post the ATC narrative as soon as feasible.³⁸ To correct this deficiency, NAESB modified those two standards to provide that transmission providers strive to post narratives within one business day and requiring a posting within five business days. NAESB's report does not present any reason why a transmission provider would need five business days to post an ATC narrative and we remain concerned that the five-business day requirement does not meet the Commission's requirement to post the ATC narrative as soon as feasible. We invite comments on the necessity for taking longer than one day to post the ATC narrative.

³⁸ Order No. 676-E, FERC Stats. & Regs. ¶ 31,299 at P 39.

31. In addition, NAESB made minor modifications to standards WEQ-013-2.6.8.1 and WEQ-013-2.6.8.2 to clarify that the listings of service types therein constitute examples and are not definitive. With the exceptions noted, we propose to incorporate by reference Version 003 of these standards into the Commission's regulations.

C. Other Standards

1. Coordinate Interchange Standards

32. As explained above, JESS is leading efforts to modify the Coordinate Interchange (WEQ-004) standards and, additionally, to make related modifications to WEQ-001, WEQ-003 and WEQ-013 Business Practice Standards to ensure that the standards are consistent with current Electronic Tagging Functional specifications (now maintained by NAESB) as well as to incorporate a guideline standardizing the rounding of partial megawatt hours schedules.³⁹ Additional modifications were made to ensure consistency across all WEQ standards.

³⁹ See NAESB Version 003 Report at 9.

2. Gas/Electric Coordination Standards

33. In the Version 003 standards, NAESB made modifications to eliminate inconsistencies between definitions used by the NAESB quadrants as well as the NERC Glossary.⁴⁰ This included changing the terms “Power Plant Operator” and “Power Plant Operator's Facility” to “Power Plant Gas Coordinator” and “Power Plant Gas Coordinator's Facility,” respectively.⁴¹ Additionally, a definition for “Transportation Service Provider” was added and revisions were made to ensure the consistent application of the terms “Balancing Authority” and “Reliability Coordinator.” ⁴² We propose to incorporate by reference Version 003 of these standards into the Commission's regulations.

⁴⁰ Id.

⁴¹ Id.

⁴² Id.

3. Public Key Infrastructure (PKI) Standards

34. NAESB first developed Public Key Infrastructure (PKI) Standards in 2007 and the Commission incorporated the PKI standard (Standard WEQ-12), Version 001, by reference into its regulations in Order No. 676-C.⁴³ The NAESB PKI Standards incorporated by reference by the Commission in Order No. 676-C were limited to requirements that an Authorized Certification Authority (ACA) must meet in order to issue certificates that are compliant with the NAESB PKI Standards and the minimum physical characteristics that a certificate must meet in order to achieve compliance with the NAESB PKI Standards.⁴⁴ These standards did not identify business transactions by public utilities that required the use of PKI.

⁴³ See Order No. 676-C, FERC Stats. & Regs. ¶ 31,274 at P 75.

⁴⁴ Id.

35. On rehearing, in Order No. 676-D, the Commission explained that the NAESB standards apply to Certificate Authorities seeking certification from NAESB, but did not require that public utilities use PKI. The Commission explained: “the PKI Standards are designed to provide uniform standards for an encryption system that companies can, but are not required to, use to enhance security for business transactions taking place over the Internet.” (emphasis added).⁴⁵ The Commission further explained that “[t]he standards do not require that public utilities use PKI for all business transactions over the Internet and the standards permit public utilities to conduct business transactions over the Internet that do not involve the use of [ACAs].” ⁴⁶

⁴⁵ Order No. 676-D, 124 FERC ¶ 61,317 at P 7.

⁴⁶ Id. P 9.

36. In a series of filings, NAESB reported on its updated PKI standards for Version 003. The revised standards are divided into two sections. First, Standard WEQ-012 specifies those transactions for which public utilities need to use PKI. The WEQ-012 standards specify the minimum authentication requirements that end entities ⁴⁷ must meet when conducting transactions under NAESB Business Practice Standards defined in Standards WEQ-000, WEQ-001, WEQ-002, WEQ-003, WEQ-004 and WEQ-013. This includes the use of PKI in communicating with the Electric Industry Registry (EIR) of commercial transaction information useful for electronic tagging.⁴⁸ Under these standards, for these specific purposes, public utilities need to use NAESB-certified ACAs for PKI.

⁴⁷ NAESB defines “end entities” as including utilities and other independent grid operators.

⁴⁸ NAESB has replaced NERC in supporting the Electric Industry Registry (EIR) as these data relate to business transactions rather than reliability. Under NERC, the registry was referred to as the Transmission System Information Network (TSIN).

37. Second, NAESB developed ACA Accreditation Requirements and ACA Process requirements that ACAs must meet to receive certification from NAESB. NAESB has not adopted these accreditation requirements as standards.

38. NAESB explains ⁴⁹ that, given the importance and inter-play of OASIS, electronic tagging, and the EIR, a common PKI standard used to secure access is a significant improvement over simple user name and password authentication in common use. NAESB states that its PKI program provides assurance that (1) the party initiating a data exchange is positively identified by its electronic certificate, (2) the data exchanged is encrypted and unaltered in transit, and (3) each party to the transaction (i.e, the initiating party and the counter-party) is the intended recipient of the information exchanged, through mutual authentication. NAESB further explains that this mutual authentication process allows two entities or computers, in this case, the end entity and the service provider operating the system, to authenticate the identities of one another through challenge-response protocols.

⁴⁹ January 30, 2013 Filing.

39. Given the improvement represented by the revised standards over the Version 002 standards, we propose to incorporate by reference the NAESB WEQ-012 standards. These standards, when adopted, will require public utilities to conduct transactions securely when using the internet and will eliminate confusion over which transactions involving public utilities must follow the approved PKI procedures to secure their transactions. We also understand the necessity for the standards to require that all ACAs be certified under a common set of certification requirements so that all participants have a common list of ACAs from which they can choose. Having a common list of ACAs enhances the efficiency of transactions as each party can be assured that a counter party's certificate meets these minimum requirements.⁵⁰ While we find that NAESB's certification provides efficiency benefits, we are not proposing to incorporate by reference the NAESB ACA Accreditation Requirements and ACA Process requirements, as NAESB has not adopted these requirements as standards and the Commission does not have jurisdiction over ACAs.⁵¹

⁵⁰ In proposing to incorporate by reference Standard WEQ-012, we recognize that while the electric industry is not insubstantial, it may represent only a small portion of an ACA's clientele, and that NAESB has a legitimate concern in setting certification standards that provide potential customers with sufficient competitive alternatives in choosing suppliers to provide price competition in PKI services.

⁵¹ See Reporting on North American Energy Standards Board Public Key Infrastructure Standards,140 FERC ¶ 61,149, at P 13 (2012) (where the Commission stated it does not have jurisdiction over NAESB or the Certification Authorities as public utilities). Since the ACA Accreditation Requirements and ACA Process apply to non-jurisdictional entities, and we are not proposing to incorporate these standards as federal regulations, we will not opine upon these requirements, including the lifetime of the root keys.

4. Smart Grid Standards

40. The NAESB WEQ Version 003 Business Practice Standards include five wholesale business practice standards related to Smart Grid that define use cases, data requirements, and a common model to represent customer energy usage: ⁵²

⁵² See supra n.9.

• NAESB WEQ-016—Specifications for Common Electricity Product and Pricing Definition;

• NAESB WEQ-017—Specifications for Common Schedule Communication Mechanism for Energy Transactions;

• NAESB WEQ-018—Specifications for Wholesale Standard Demand Response Signals;

• NAESB WEQ-019—Customer Energy Usage Information Communication; and

• NAESB WEQ-020—Smart Grid Standards Data Elements Table.

41. We propose, in this NOPR, to incorporate by reference standards WEQ-016, WEQ-017, WEQ-018, WEQ-019 and WEQ-020 into the Commission's regulations. The Commission notes that NAESB ratified changes to Standard WEQ-019 on March 21, 2013. We understand that this standard provides for energy usage information and this revision is consistent with the Green Button Initiative, promoted by the White House Office of Science and Technology Policy,⁵³ which allows consumers access to their energy usage information. These standards will not only be used by the wholesale electric industry, but also are important initiatives for use in ongoing utility programs for consumer data access. We, therefore, invite comment on whether the Commission should incorporate by reference the version of Standard WEQ-019 ratified by NAESB membership on March 21, 2013, rather than the version contained in Version 003.

⁵³ See http://www.whitehouse.gov/blog/2012/01/18/green-button-providing-consumers-access-their-energy-data.

5. Standards Related to Terms, Definition and Acronyms

42. The Version 003 WEQ Business Practice Standards create a common location for all abbreviations, acronyms and definitions of terms and houses this information in a newly created standard WEQ-000. In accordance with Commission guidance.⁵⁴ NAESB also set out to ensure definition consistencies internally and with the NERC Glossary and revised the NAESB definitions accordingly.

⁵⁴ NAESB's efforts in this regard are in accordance with the Commission's findings in Order No. 676, FERC Stats. & Regs. ¶ 31,241 at P 40 and Order No. 676-C, 126 FERC ¶ 61,228 at P 8.

6. Commission Proposal

43. With the exceptions noted, we propose to incorporate by reference Version 003 of these standards into the Commission's regulations.

D. Implementation

44. Consistent with our past practice, we propose that, once the Commission incorporates these standards by reference into its regulations, public utilities must implement these standards even before they have updated their tariffs to incorporate these changes. The Commission is also proposing, consistent with our regulation at 18 CFR 35.28(c)(1)(vii), to require each public utility to revise its OATT to include the Version 003 standards that we are proposing to incorporate by reference herein. For standards that do not require implementing tariff provisions, the Commission is proposing to permit the public utility to incorporate the WEQ standard by reference in its OATT. We are not, however, proposing to require a separate tariff filing to accomplish this change. Consistent with our prior practice, we are proposing to give public utilities the option of including these changes as part of an unrelated tariff filing.⁵⁵

⁵⁵ See Order No. 676, FERC Stats. & Regs. ¶ 31,216 at P 100.

III. Notice of Use of Voluntary Consensus Standards

45. The NAESB WEQ Version 003 Business Practice Standards were adopted by NAESB under NAESB's consensus procedures.⁵⁶ As the Commission found in Order No. 676, adoption of consensus standards is appropriate because the consensus process helps ensure the reasonableness of the standards by requiring that the standards draw support from a broad spectrum of all segments of the industry. Moreover, since the industry itself has to conduct business under these standards, the Commission's regulations should reflect those standards that have the widest possible support. In section 12(d) of the National Technology Transfer and Advancement Act of 1995, Congress affirmatively requires federal agencies to use technical standards developed by voluntary consensus standards organizations, like NAESB, as means to carry out policy objectives or activities unless use of such standards would be inconsistent with applicable law or otherwise impractical.⁵⁷

⁵⁶ Under this process, to be approved a standard must receive a super-majority vote of 67 percent of the members of the WEQ's Executive Committee with support from at least 40 percent from each of the five industry segments—transmission, generation, marketer/brokers, distribution/load serving entities, and end users. For final approval, 67 percent of the WEQ's general membership must ratify the standards.

⁵⁷ Public Law 104-113, 12(d), 110 Stat. 775 (1996), 15 U.S.C. 272 note (1997).

46. Office of Management and Budget Circular A-119 (section 11) (February 10, 1998) provides that Federal Agencies should publish a request for comment in a NOPR when the agency is seeking to issue or revise a regulation proposing to adopt a voluntary consensus standard or a government-unique standard. In this NOPR, the Commission is proposing to incorporate by reference a voluntary consensus standard developed by the WEQ.

IV. Information Collection Statement

47. The following collection of information contained in this proposed rule is subject to review by the Office of Management and Budget (OMB) for review under section 3507(d) of the Paperwork Reduction Act of 1995, 44 U.S.C. 3507(d). OMB's regulations require approval of certain information collection requirements imposed by agency rules.⁵⁸ Upon approval of a collection(s) of information, OMB will assign an OMB control number and an expiration date. Respondents subject to the filing requirements of this rule will not be penalized for failing to respond to these collections of information unless the collections of information display a valid OMB control number.

⁵⁸ 5 CFR 1320.11 (2012).

48. The Commission solicits comments on the Commission's need for this information, whether the information will have practical utility, the accuracy of the provided burden estimates, ways to enhance the quality, utility, and clarity of the information to be collected, and any suggested methods for minimizing respondents' burden, including the use of automated information techniques.

49. The following burden estimate is based on the projected costs for the industry to implement the new and revised business practice standards adopted by NAESB and proposed to be incorporated by reference in this NOPR.

Data collection | Number of respondents | Number of responses per respondent | Hours per response | Total number of hours
| (1) | (2) | (3) | (1) × (2) × (3)
FERC-516 ⁵⁹ (tariff filing) | 132 | 1 | 6 | 792
FERC-717 ⁶⁰ (compliance with standards) | 132 | 1 | ⁶¹ 30 | 3,960
Totals |  |  |  | 4,752

Costs to Comply with Paperwork Requirements:

⁵⁹ “FERC-516” is the Commission's identifier that corresponds to OMB control no. 1902-0096 which identifies the information collection associated with Electric Rate Schedules and Tariff Filings.

⁶⁰ “FERC-717” is the Commission's identifier that corresponds to OMB control no. 1902-0173 which identifies the information collection associated with Standards for Business Practices and Communication Protocols for Public Utilities.

⁶¹ The 30-hour estimate was developed in Docket No. RM05-5-013, when the Commission prepared its estimate of the scope of work involved in transitioning to the NAESB Version 002.1 Business Practice Standards. See Order No. 676-E, FERC Stats. & Regs. ¶ 31,299 at P 134. We have retained the same estimate here, because the scope of the tasks involved in the transition to Version 003 of the Business Practice Standards is very similar to that for the transition to the Version 002.1 Standards.

The estimated annual costs are as follows:

• FERC-516: 132 entities * 1 response/entity * (6 hours/response * $72/hour ⁶²) = $57,024.

⁶² The estimated hourly loaded cost (salary plus benefits) is a composite estimate that includes legal, technical, and support staff rates, based on data from the Bureau of Labor Statistics at http://bls.gov/oes/current/naics3_221000.htm. Loaded costs are BLS rates divided by 0.703 and rounded to the nearest dollar (http://www.bls.gov/news.release/ecec.nr0.htm).

• FERC-717: 132 entities * 1 response/entity * (30 hours/response * $72/hour) = $285,120.

Titles: Electric Rate Schedule Filing (FERC-516); Open Access Same Time Information System and Standards for Business Practices and Communication Protocols for Public Utilities (FERC-717).

Action: Proposed collection.

OMB Control Nos.: 1902-0096 (FERC-516); 1902-0173 (FERC-717).

Respondents: Business or other for profit (Public Utilities—Generally not applicable to small businesses).⁶³

⁶³ See infra P 56.

Frequency of Responses: One-time implementation (business procedures, capital/start-up).

50. Necessity of the Information: This proposed rule, if implemented would upgrade the Commission's current business practice and communication standards and protocols modifications to support compliance with requirements established by the Commission in Order Nos. 890, 890-A, 890-B and 890-C, as well as modifications to the OASIS-related standards to support Order Nos. 676, 676-A, 676-E and 717. In addition, NAESB made modifications to the Coordinate Interchange standards to compliment the updates to the e-Tag specifications, modifications to the Gas/Electric Coordination standards to provide consistency between the two markets and re-organized and revised definitions to create a standard set of terms, definitions and acronyms applicable to all NAESB WEQ standards. The Version 003 Standards also include standards related to Demand Side Management and Energy Efficiency, which the Commission separately acted on in Docket No. RM05-5-020 after NAESB filed its Version 003 report, and Smart Grid-related standards that NAESB previously filed with the Commission in Docket No. RM05-5-021 and to increase the efficiency of the wholesale electric power grid.

51. Internal Review: The Commission has reviewed the revised business practice standards and has made a preliminary determination that the proposed revisions that we propose here to incorporate by reference are both necessary and useful. In addition, the Commission has assured itself, by means of its internal review, that there is specific, objective support for the burden estimate associated with the information requirements.

52. Interested persons may obtain information on the reporting requirements by contacting the Federal Energy Regulatory Commission, Office of the Executive Director, 888 First Street NE., Washington, DC 20426 [Attn: Ellen Brown, email: DataClearance@ferc.gov, phone: (202) 502-8663, fax: (202) 273-0873].

53. Comments concerning the information collections proposed in this NOPR and the associated burden estimates should be sent to the Commission at this docket and may also by email to the Office of Management and Budget, Office of Information and Regulatory Affairs [Attention: Desk Officer for the Federal Energy Regulatory Commission]. For security reasons, comments should be sent by email to OMB at the following email address: oira_submission@omb.eop.gov. Please reference the docket number of this Notice of Proposed Rulemaking (Docket No. RM05-5-022) in your submission.

V. Environmental Analysis

54. The Commission is required to prepare an Environmental Assessment or an Environmental Impact Statement for any action that may have a significant adverse effect on the human environment.⁶⁴ The Commission has categorically excluded certain actions from these requirements as not having a significant effect on the human environment.⁶⁵ The actions proposed here fall within categorical exclusions in the Commission's regulations for rules that are clarifying, corrective, or procedural, for information gathering, analysis, and dissemination, and for sales, exchange, and transportation of electric power that requires no construction of facilities.⁶⁶ Therefore, an environmental assessment is unnecessary and has not been prepared in this NOPR.

⁶⁴ Regulations Implementing the National Environmental Policy Act of 1969, Order No. 486, 52 FR 47897 (Dec. 17, 1987), FERC Stats. & Regs., Regulations Preambles 1986-1990 ¶ 30,783 (1987).

⁶⁵ 18 CFR 380.4.

⁶⁶ See 18 CFR 380.4(a)(2)(ii), 380.4(a)(5), 380.4(a)(27).

VI. Regulatory Flexibility Act Certification

55. The Regulatory Flexibility Act of 1980 (RFA) ⁶⁷ generally requires a description and analysis of proposed rules that will have significant economic impact on a substantial number of small entities. The RFA mandates consideration of regulatory alternatives that accomplish the stated objectives of a proposed rule and that minimize any significant economic impact on a substantial number of small entities. The Small Business Administration's Office of Size Standards develops the numerical definition of a small business.⁶⁸ The Small Business Administration has established a size standard for electric utilities, stating that a firm is small if, including its affiliates, it is primarily engaged in the transmission, generation and/or distribution of electric energy for sale and its total electric output for the preceding twelve months did not exceed four million megawatt hours (MWh).⁶⁹

⁶⁷ 5 U.S.C. 601-612.

⁶⁸ 13 CFR 121.101 (2012).

⁶⁹ 13 CFR 121.201, Sector 22, Utilities & n.1.

56. The Commission seeks comment on the estimated impact of the proposed rule on small business entities. The Commission estimates that 5 of the 132 respondents are small. The Commission estimates that the impact on these entities is consistent with the paperwork burden of $2,592 per entity used above.⁷⁰ The Commission does not consider $2,592 to be a significant economic impact.

⁷⁰ 36 hours at $72/hour = $2,592

57. Based on the above, the Commission certifies that the proposed Reliability Standards will not have a significant impact on a substantial number of small entities. Accordingly, no initial regulatory flexibility analysis is required.

VII. Comment Procedures

58. The Commission invites interested persons to submit comments on the matters and issues proposed in this notice to be adopted, including any related matters or alternative proposals that commenters may wish to discuss. Comments are due September 24, 2013. Comments must refer to Docket No. RM05-5-022, and must include the commenter's name, the organization they represent, if applicable, and their address in their comments.

59. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

60. Commenters that are not able to file comments electronically must send an original of their comments to: Federal Energy Regulatory Commission, Secretary of the Commission, 888 First Street NE., Washington, DC 20426.

61. All comments will be placed in the Commission's public files and may be viewed, printed, or downloaded remotely as described in the Document Availability section below. Commenters on this proposal are not required to serve copies of their comments on other commenters.

VIII. Document Availability

62. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

63. From the Commission's Home Page on the Internet, this information is available on eLibrary. The full text of this document is available on eLibrary in PDF and Microsoft Word format for viewing, printing, and/or downloading. To access this document in eLibrary, type the docket number excluding the last three digits of this document in the docket number field.

64. User assistance is available for eLibrary and the Commission's Web site during normal business hours from the Commission's Online Support at 202-502-6652 (toll free at 1-866-208-3676) or email at ferconlinesupport@ferc.gov, or the Public Reference Room at (202) 502-8371, TTY (202) 502-8659. Email the Public Reference Room at public.referenceroom@ferc.gov.

List of Subjects in 18 CFR Part 38

Conflict of interests, Electric power plants, Electric utilities, Incorporation by reference, Reporting and recordkeeping requirements.

By direction of the Commission.
Nathaniel J. Davis, Sr.,
Deputy Secretary.

In consideration of the foregoing, the Commission proposes to amend Chapter I, Title 18, Part 38 of the Code of Federal Regulations, as follows:

PART 38—BUSINESS PRACTICE STANDARDS AND COMMUNICATION PROTOCOLS FOR PUBLIC UTILITIES

1. The authority citation for part 38 continues to read as follows:

Authority: 16 U.S.C. 791-825r, 2601-2645; 31 U.S.C. 9701; 42 U.S.C. 7101-7352.

2. In § 38.2, paragraphs (a)(1) through (13) are revised and paragraphs (a)(14) and (15) are added to read as follows:

§ 38.2 Incorporation by reference of North American Energy Standards Board Wholesale Electric Quadrant standards.

(a) * * *

(1) Abbreviations, Acronyms, and Definition of Terms (WEQ-000, Version 003, July 31, 2012, as modified by NAESB final actions ratified on Oct. 4, 2012, Nov. 28, 2012 and Dec. 28, 2012);

(2) Open Access Same-Time Information System (OASIS), Version 2.0 (WEQ-001, Version 003, July 31, 2012, as modified by NAESB final actions ratified on Dec. 28, 2012) with the exception of Standards 001-14.1.3 and 001-15.1.2);

(3) Open Access Same-Time Information System (OASIS) Business Practice Standards and Communication Protocols (S&CP), Version 2.0 (WEQ-002, Version 003, July 31, 2012, as modified by NAESB final actions ratified on Nov. 28, 2012 and Dec. 28, 2012);

(4) Open Access Same-Time Information System (OASIS) Data Dictionary Business Practice Standards, Version 2.0 (WEQ-003, Version 003, July 31, 2012, as modified by NAESB final actions ratified on Dec. 28, 2012);

(5) Coordinate Interchange (WEQ-004, Version 003, July 31, 2012, as modified by NAESB final actions ratified on Dec. 28, 2012);

(6) Area Control Error (ACE) Equation Special Cases (WEQ-005, Version 003, July 31, 2012);

(7) Manual Time Error Correction (WEQ-006, Version 003, July 31, 2012);

(8) Inadvertent Interchange Payback (WEQ-007, Version 003, July 31, 2012);

(9) Transmission Loading Relief (TLR)—Eastern Interconnection (WEQ-008, Version 003, July 31, 2012);

(10) Gas/Electric Coordination (WEQ-011, Version 003, July 31, 2012);

(11) Public Key Infrastructure (PKI) (WEQ-012, Version 003, July 31, 2012, as modified by NAESB final actions ratified on Oct. 4, 2012);

(12) Open Access Same-Time Information System (OASIS) Implementation Guide, Version 2.0 (WEQ-013, Version 003, July 31, 2012, as modified by NAESB final actions ratified on Dec. 28, 2012);

(13) Measurement and Verification of Wholesale Electricity Demand Response (WEQ-015, Version 003, July 31, 2012);

(14) NAESB Specifications for Common Electricity Product and Pricing Definition (WEQ-016, Version 003, July 31, 2012);

(15) Specifications for Common Schedule Communication Mechanism for Energy Transactions (WEQ-017, Version 003, July 31, 2012);

(16) Specifications for Wholesale Standard Demand Response Signals (WEQ-018, Version 003, July 31, 2012);

(17) NAESB Customer Energy Usage Information Communication (WEQ-019, Version 003, July 31, 2012);

(18) Smart Grid Standards Data Element Table (WEQ-020, Version 003, July 31, 2012); and

(19) Measurement and Verification of Energy Efficiency Products (WEQ-021, Version 003, July 31, 2012).

* * * * *

[FR Doc. 2013-17745 Filed 7-25-13; 8:45 am]

BILLING CODE 6717-01-P